DEPARTMENT OF COMMERCE

National Oceanic and Atmospheric Administration

50 CFR Part 600

[I.D. 070802D]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Northeast Multispecies Fishery Management Plan (FMP). However, further review and consultation may be necessary before a final determination is made to issue EFPs. NMFS announces that the Regional Administrator proposes to issue EFPs that would allow two vessels to conduct fishing operations otherwise restricted by the regulations governing the fisheries of the Northeastern United States. EFPs would allow exemptions to gear restrictions and to the Days-at-Sea (DAS) requirements of the FMP. The experiment proposes to compare two experimental trawl net configurations (2½-inch (6.35-cm) diamond and 3-inch (7.62-cm) diamond codend mesh sizes in a net with a finfish excluder device and a raised footrope with no sweep) to compare various dropper chain lengths and locations on the footrope and to fish this gear in a variety of bottom types and depths to selectively fish for whiting (Merluccius bilinearis), while maintaining low levels of regulated Northeast multispecies bycatch.

Regulations under the Magnuson-Stevens Fishery Conservation and Management Act require publication of this notification to provide interested parties the opportunity to comment on applications for proposed EFPs.

DATES: Comments on this document must be received on or before August 5, 2002.

ADDRESSES: Written comments should be sent to Patricia A. Kurkul, Regional Administrator, NMFS, Northeast Region, One Blackburn Drive, Gloucester, MA 01930. Mark the outside of the envelope “Comments on Whiting EFP Proposal.” Comments may also be sent via facsimile (fax) to (978) 281-9135.

FOR FURTHER INFORMATION CONTACT: E. Martin Jaffe, Fishery Policy Analyst, 978-281-9272.

SUPPLEMENTARY INFORMATION: The Maine Division of Marine Resources (MEDMR) submitted an application for EFPs on June 14, 2002, with final revisions received on June 27, 2002. The EFPs would facilitate the collection of data on experimental gear performance for use in addressing whiting conservation issues (juvenile whiting bycatch) and reductions in regulated Northeast multispecies bycatch in the Gulf of Maine whiting fishery (Maine whiting fishery). MEDMR also intends to present the findings of the data from the experiment to the New England Fishery Management Council (Council) for its consideration when evaluating year-4 default measures and long-term management options for the whiting resource.

The experiment would occur within a portion of the Gulf of Maine/Georges Bank Regulated Mesh Area (GOM/GB RMA), well within the Northern Shrimp Small Mesh Exemption Area; specifically, from the shore at 44°18′ N. lat., 69°00′ W. long., south to 43°35.3′ N. lat., 69°00′ W. long., southwesterly to 43°00′ N. lat., 70°30′ W. long., then northerly to the shore at 43°21′ N. lat., 70°30′ W. long. The experimental fishing area would exclude any seasonal or year-round closures overlapping it in time or area and would operate for 3 months, from mid-July through mid-October 2002. Field testing of the proposed gear modification through the gear trials would take place for approximately 6 days a month from July through mid-October 2002 to allow for weather contingencies and to capture seasonal variability in target species distribution and abundance.

The experiment is a continuation of, and intends to build on, previous gear studies (i.e., a gear testing component of the traditional Separator Trawl Whiting Experimental Fishery) that tested and assessed gear selectivity factors designed to address bycatch issues in the Maine whiting fishery. The main purpose of this four-phase study is as follows: (1) To obtain better video footage of the gear and its interactions with fish and habitat (singular and combined effects); (2) to compare 2 and one-half-inch (6.35-cm) diamond codend mesh against 3-inch (7.62-cm) diamond codend mesh, each with 2-inch (5.08-cm) grate bar spacings in combination with 42-inch (106.7-cm) dropper chains on a raised footrope trawl net configuration; (3) to test various dropper chain configurations for balance with the number of headrope floats for best net stability; and (4) to tow the best net configuration over a variety of bottom types and depths under commercial conditions to ensure that the net will continue to work well with heavier catches.

The field work would require 276 total hours of towing; 2 and one-half-inch (6.35-cm) versus 3-inch (7.62-cm) codend gear trials would entail 36 total hours of trawling activity (6 days paired towing with 6 half-hour tows per day for each of the two vessels), followed by 240 total hours of towing during the remaining sea trials (4 days each per month for 3 months for two vessels towing an average of 10 hours per day).

Projected whiting landings based on MEDMR sea sampling data during July and August 1999 are estimated at upper catch rates of between 18,960 lb (8,600.11 kg) and 31,680 lb (14,369.80 kg) of whiting total (based upon an average catch per unit effort of between 790 lb (358.34 kg) and 1,320 lb (598.74 kg) per trip). Lower catch rates are estimated at 42 lb (19.05 kg)/trip or 1,008 lb 457.22 kg) total catch for the 24 gear trial trips, excluding the 12 paired tow trips where minimal catch would be retained. These catch levels are well within the possession/landing limits for vessels using small mesh within the GOM/GB RMA. Landed catch would not exceed current restrictions, depending on mesh size being used. Thus, the experimental gear trials are expected to have very little incremental impact on the whiting resource. Participants may retain whiting and Atlantic herring (Clupea harengus) for commercial sale up to the applicable landing limits.

Historically, the Maine whiting fishery, through its use of the separator trawl (the control gear in this experiment), has experienced low levels of regulated multispecies bycatch. One of the objectives of the experiment is to demonstrate that the proposed gear combinations of separator grate, mesh size and raised footrope trawl configuration can selectively fish for whiting, while avoiding impacts on regulated finfish species. The applicant notes that the proportion of bycatch to the total catch (percent bycatch) may exceed acceptable levels when target species catch rates are low. Nonetheless, the applicant expects that the average bycatch levels would not exceed acceptable thresholds.

All of the paired tow trips and 25 percent of the remaining 24 trips would have an MEDMR sea sampler on board and the catch would be measured according to NMFS sea sampling methodology and recorded on NMFS logbooks. For all trips without a sea sampler, the captain would record total catch, catch of whiting, and catch in numbers and weight of each regulated species for each tow in a logbook supplied by MEDMR. Any sub-legal sized fish would be measured by the sea samplers and returned immediately to the water.

The applicant plans to conduct public outreach meetings to present the gear research findings to the remainder of the fleet that did not participate in the experimental fishery. It is intended that the results of this gear work will be the basis for a request to the Council for a Maine whiting fishery exemption within an appropriate area and under certain gear restrictions.

EFPs would exempt two vessels from the DAS requirements and gear restrictions of the FMP found at 50 CFR part 648, subpart F.

Regulations under the Magnuson-Stevens Fishery Conservation and Management Act require publication of this notification to provide interested parties the opportunity to comment on applications for proposed EFPs.

Based on the results of this EFP, this action may lead to future rulemaking.

Authority: 16 U.S.C. 1801 et seq.

Dated: July 12, 2002.
Virginia M. Fay,
Acting Director, Office of Sustainable Fisheries, National Marine Fisheries Service.

[FR Doc. 02-18265 Filed 7-18-02; 8:45 am]

BILLING CODE 3510-22-S